DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before March 17, 2023.

ADDRESSES: Record Center, Pipeline and Hazardous Materials Safety Administration, U.S. Department of Transportation, Washington, DC 20590. Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on February 7, 2023.
Donald P. Burger,
Chief, General Approvals and Permits Branch.

Application No. | Applicant | Regulation(s) affected | Nature of the special permits thereof
Special Permits Data—Granted
9847-M | FIBA Technologies, Inc | 173.302a(b)(2), 173.302a(b)(3), 173.302a(b)(4), 173.302a(b)(5), 180.205(c), 180.205(f), 180.205(g), 180.205(i), 180.209(a), 180.213 | To modify the special permit to change the special permit marking requirements.
11598-M | Metalcraft, Inc | 173.301(f), 173.304a(a)(2) | To modify the special permit to authorize an additional hazardous material.
20482-M | Solid Power Operating, Inc | 173.35(e) | To modify the special permit to exempt the grantee from 4.1.1.7.1 of the IMDG Code.
21012-M | Linde Gas & Equipment Inc | 172.203(a), 180.209, 172.301(c) | To modify the special permit to authorize additional hazardous materials.
21074-M | Zhejiang Meenyu Can Industry Co., Ltd | 173.304(a), 173.304(d) | To modify the special permit to authorize additional inside metal containers.
21088-M | Logbatt Gmbh | 173.24(g) | To modify the special permit to authorize additional types of lithium batteries.
21344-N | ZF Dongfang Automotive Safety Technology (Xi'an) Co., Ltd | 173.301(h), 173.302(a)(1) | To authorize authorizes the manufacture, mark, sale, and use of non-DOT specification pressure vessels for use as components of automobile safety systems. The pressure vessels, charged with non-toxic, non-liquefied gases, are authorized for transportation in commerce subject to requirements and limitations specified herein.
21408-N | GFS Chemicals, Inc | 173.158(f)(3) | To authorize the transportation in commerce of UN 4G specification packagings for the transport of nitric acid where the primary receptacles are not individually overpacked in tightly closed metal packagings.
21411-N | Thales Alenia Space | 172.101(j), 172.300, 173.301(f), 173.302a(a)(1), 173.304a(a)(2), 173.304a(a)(2), 173.185(a)(1) | To authorize the transportation in commerce of prototype and low production lithium ion batteries and certain Division 2.2 liquefied and compressed gases in non-spec packaging (spacecraft).
21474-N | Yiwu Bluefire Camping Industry Co., Ltd | 173.304a(a)(1), 173.304a(d) | To authorize the manufacture, mark, sale, and use of a non-DOT specification non-refillable inside container conforming with all regulations applicable to a DOT specification 2P inner non-refillable metal receptacle except for size, testing requirements, and marking as specified herein, for the transportation in commerce of the hazardous materials authorized by this special permit.
21480-N | Korean Air Lines Co., Ltd | 172.101(j)(1), 175.30(a)(1) | To authorize the transportation in commerce of certain explosives that are forbidden for transportation aboard cargo-only aircraft.
Special Permits Data—Denied
14227-M | Aluminum Tank Industries, Inc | 177.834(h), 178.700(c)(1) | To modify the special permit to authorize an additional use of the packaging.
21435-N | Zhejiang Dongcheng Printing Industry Co., Ltd | 173.304(d) | To authorize the manufacture, marking, sale and use of a non-DOT specification non-refillable inside container similar to a 2Q specification container.
Special Permits Data—Withdrawn
6293-M | Copperhead Chemical Company, Inc | 173.56(b) | To modify the special permit to add nitrate ester as an authorized material.
6765-M | Messer Group Gmbh | 172.203(a), 173.318, 173.318, 176.30(a)(6), 176.76(g) | Agent Guy Dalton retired. Add new agent for Messer Transport and Compliance Billy Stover.

[FR Doc. 2023-03205 Filed 2-14-23; 8:45 am]

BILLING CODE P